DEPARTMENT OF THE INTERIOR

Bureau of Land Management

[LLMT926000-10-L19100000-BJ0000-LRCM08RS3474]

Notice of Filing of Plats of Survey; Montana

AGENCY: Bureau of Land Management, Interior.

ACTION: Notice of filing of plats of survey.

SUMMARY: The Bureau of Land Management (BLM) will file the plat of survey of the lands described below in the BLM Montana State Office, Billings, Montana, thirty (30) days from the date of publication in the Federal Register.

FOR FURTHER INFORMATION CONTACT: Randy Thomas, Cadastral Surveyor, Branch of Cadastral Survey, Bureau of Land Management, 5001 Southgate Drive, Billings, Montana 59101-4669, telephone (406) 896-5134 or (406) 896-5009.

SUPPLEMENTARY INFORMATION: This survey was executed at the request of the Superintendent, Northern Cheyenne Agency, through the Rocky Mountain Regional Director, Bureau of Indian Affairs, and was necessary to determine boundaries of trust or tribal interest lands.

Principal Meridian, Montana

T. 2 S., R. 44 E.

The plat, in 13 sheet(s), representing the corrective dependent resurvey of a portion of the south boundary, a portion of the subdivisional lines, and a portion of the subdivision of section 34, the dependent resurvey of a portion of the south boundary, a portion of the subdivisional lines, a portion of the subdivision of certain sections, the adjusted original meanders of portions of the former left and right banks of the Tongue River, downstream, through certain sections, certain partition lines dividing an abandoned channel of the Tongue River, lying within section 10, the adjusted original medial line of an abandoned channel of the Tongue River, through sections 9 and 10, and former Tract 37, now designated Tract 38, lying within sections 9 and 10, the subdivision of section 21, and the survey of certain meanders of the present left and right banks of the Tongue River, downstream, through certain sections, the former left bank of an abandoned channel of the Tongue River, through sections 9 and 10, certain division of accretion lines, and certain partition lines dividing an abandoned channel of the Tongue River, Township 27 North, Range 4 East, Principal Meridian, Montana, was accepted March 31, 2010.

We will place a copy of the plat, in 13 sheet(s), and related field notes we described in the open files. They will be available to the public as a matter of information. If the BLM receives a protest against this survey, as shown on this plat, in 13 sheet(s), prior to the date of the official filing, we will stay the filing pending our consideration of the protest. We will not officially file this plat, in 13 sheet(s), until the day after we have accepted or dismissed all protests and they have become final, including decisions or appeals.

Authority: 43 U.S.C. Chap. 3

Dated: April 1, 2010.
Michael T. Birtles,
Chief Cadastral Surveyor, Division of Resources.

[FR Doc. 2010-7953 Filed 4-7-10; 8:45 am]

BILLING CODE 4310-DN-P